NUCLEAR REGULATORY COMMISSION

[Docket No. SSD 99-27 and ASLBP No. 00-778-06-ML]

Graystar, Inc.; Notice of Reconstitution

Pursuant to the authority contained in 10 CFR 2.721 and 2.1207, the Special Assistant in the captioned 10 CFR part 2, Subpart L proceeding is hereby replaced by appointing Administrative Judge Thomas D. Murphy in place of Administrative Judge Frederick J. Shon. This reconstitution is a result of Judge Shon's retirement.

All correspondence, documents, and other material shall be filed with the Presiding Officer in accordance with 10 CFR 2.1203. The address of the new Special Assistant is: Administrative Judge Thomas D. Murphy, Atomic Safety and Licensing Board Panel, U.S. Nuclear Regulatory Commission, Washington, D.C. 20555-0001.

Issued at Rockville, Maryland, this 28th day of August 2000.
G. Paul Bollwerk, III,
Chief Administrative Judge, Atomic Safety and Licensing Board Panel.

[FR Doc. 00-22494 Filed 8-31-00; 8:45 am]

BILLING CODE 7590-01-P